DEPARTMENT OF ENERGY

Federal Energy Regulatory Commission

Notice of Temporary Variance Request and Soliciting Comments, Motions to Intervene, and Protests

January 21, 2000.

Take notice that the following hydroelectric application has been filed with the Commission and is available for public inspection:

a. Type of Application: Request for Continued Temporary Variance.

b. Project No: 2584-027.

c. Date field: January 10, 2000.

d. Applicant: Rochester Gas and Electric Corporation.

e. Name of Project: Station 26 Project.

f. Location: On the Genesee River, in the City of Rochester, Monroe County, New York. The project does not utilize federal or tribal lands.

g. Filed Pursuant to: 18 CFR 4.200.

h. Applicant Contact: Hugh J. Ives, Rochester Gas and Electric, 89 East Ave., Rochester, NY 14649-0001, (716) 724-8209.

i. FERC Contact: Robert Fletcher, robert.fletcher@ferc.fed.us, 202-219-1206.

j. Deadline for filing comments, motions to intervene and protest: 20 days from the issuance date of this notice. Please include the project number (2584-027) on any comments or motions filed. All documents (original and eight copies) should be filed with: David P. Boergers, Secretary, Federal Energy Regulatory Commission, 888 First Street, NE., Washington, 20426.

k. Description of Application: The New York State Canal Corporation (NYSCC), which operates the Court Street Dam at the Station 26 Project as well as the canal system of which the dam is an integral part, intends to perform maintenance on the river floodwall approximately one-quarter mile upstream from the dam for a three to four month period. The NYSCC will repair some 1,500 feet of concrete floodwall, recreational enhancements, and public assess improvements. The work is to be completed by April 15, 2000. The NYSCC has determined that the most effective way to repair the floodwall is to maintain the impoundment at 510.6 feet continuously. The NYSCC has requested the licensee hold the reservoir elevation at the 510.6 foot elevation using the project turbine, when possible, in lieu of the Court Street Dam spillgates.

Article 401 of the project license requires the licensee, in part, to maintain the impoundment level during the non-navigation season such that no more than half of each day shall such level be below 511.6 feet and at no time shall it be below 510.6 feet. Accordingly, the licensee requests a variance to article 401 through April 15, 2000, to allow it to expand, from 12 hours per day to 24 hours per day, its ability to hold the impoundment level at 510.6 feet to facilitate the work being done by the NYSCC. The licensee continues to consult with the NYSCC, the New York State Department of Environmental Conservation, and the U.S. Fish and Wildlife Service.

1. Locations of the application: A copy of the application is available for inspection and reproduction at the Commission's Public Reference Room, located at 888 First Street, NE., Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the applicant's representatives.

David P. Boergers,
Secretary.

[FR Doc. 00-1949 Filed 1-26-00; 8:45 am]

BILLING CODE 6717-01-M